DEPARTMENT OF HOMELAND SECURITY

Coast Guard

33 CFR Part 165

[Docket No. USCG-2021-0419]

RIN 1625-AA00

Safety Zone; Charlevoix Venetian Festival Air Show, Lake Charlevoix, MI, Sector Sault Ste. Marie Captain of the Port Zone; Correction

AGENCY: Coast Guard, Department of Homeland Security (DHS).

ACTION: Temporary final rule; correction.

SUMMARY: The Coast Guard published a document in the Federal Register on June 17, 2021, concerning a safety zone intended to restrict vessels from certain portions of Lake Charlevoix, MI, during air show activities on July 23, 2021. The document contained incorrect starting and ending times in the description of the effective date.

DATES: This correction is effective July 23, 2021.

FOR FURTHER INFORMATION CONTACT: If you have questions on this correction, call or email LT Deaven Palenzuela, Sector Sault Ste. Marie Waterways Management Division, U.S. Coast Guard; telephone 906-635-3223, email ssmprevention@uscg.mil.

SUPPLEMENTARY INFORMATION: The document published on June 17, 2021, at 86 FR 32219, contained incorrect starting and ending times in the DATES section and § 165.T09-0419(b) which had the safety zone beginning at 9:45 p.m. and ending at 10 p.m. The safety zone needs to begin at 8:45 p.m. and end at 11 p.m. in order to protect personnel, vessels, and the marine environment from potential hazards created by the air show.

Correction

In the Federal Register of June 17, 2021, in FR Doc. 2021-12729, beginning on page 32219, the following corrections are made:

1. On page 32219, in the second column, the DATES section is corrected to read “This rule is effective from 8:45 p.m. on July 23, 2021, through 11 p.m. on July 23, 2021.”

§ 165.T09-0419 [Corrected]

2. On page 32221, in the first column, the first sentence of § 165.T09-0419(b) is corrected to read “This section will be enforced from 8:45 p.m. through 11 p.m. on July 23, 2021.”

Dated: July 1, 2021.
A.R. Jones,
Captain of the Port Sault Sainte Marie, U.S. Coast Guard.

[FR Doc. 2021-14536 Filed 7-7-21; 8:45 am]

BILLING CODE 9110-04-P